DEPARTMENT OF JUSTICE

Antitrust Division

Notice Pursuant to the National Cooperative Research and Production Act of 1993—International Electrotechnical Commission Technical Committee 98

Notice is hereby given that, on September 17, 2004, pursuant to section 6(a) of the National Cooperative Research and Production Act of 1993, 15 U.S.C. 4301 et seq. (“the Act”), International Electrotechnical Commission Technical Committee 98 (“IEC TC 98”), by its Secretariat, National Electrical Manufacturers Association (“NEMA”), has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: International Electrotechnical Commission Technical Committee 98, Rosslyn, VA. The nature and scope of IEC TC 98's standards development activities are: the development and maintenance of standards dealing with the performance and testing of electrical insulation systems. The standards developed by IEC TC 98 are published by NEMA.

Dorothy B. Fountain,
Deputy Director of Operations, Antitrust Division.

[FR Doc. 05-140 Filed 1-4-05; 8:45 am]

BILLING CODE 4410-11-M